DEPARTMENT OF ENERGY

Federal Energy Regulatory Commission

[Docket Nos. EL12-42-000, EL12-42-001; EL12-43-000, EL12-43-001

TGP Granada, LLC and Roosevelt Wind Ranch, LLC v. Public Service Company of New Mexico, Tortoise Capital Resources Corp.; TGP Granada, LLC and Roosevelt Wind Ranch, LLC; Notice Establishing Deadline for Comments

On September 5, 2012, Public Service Company of New Mexico (PNM) filed a response to the Commission's July 5 Order,¹ regarding the provision of long-term transmission service over capacity on the Eastern Interconnection Project.

¹ TGP Granada, LLC v. Pub. Serv. Co. of New Mexico, 140 FERC ¶ 61,005 (2012) (July 5 Order).

Any person desiring to intervene or protest in the above proceeding must file in accordance with Rules 211 and 214 of the Commission's Regulations (18 CFR 385.211 and 385.214) on or before 5:00 p.m. Eastern time on October 9, 2012. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 27, 2012.
Nathaniel J. Davis, Sr.,
Deputy Secretary.

[FR Doc. 2012-24600 Filed 10-4-12; 8:45 am]

BILLING CODE 6717-01-P